DEPARTMENT OF LABOR

Employment and Training Administration

[TA-W-82,285]

U.S. Steel Tubular Products, Inc., Mckeesport Tubular Operations Division, Subsidiary of United States Steel Corporation, Mckeesport, PA; Notice of Initiation of Investigation To Terminate Certification of Eligibility

Pursuant to Section 221 of the Trade Act of 1974, as amended, an investigation was initiated in response to a petition for Trade Adjustment Assistance (TAA) filed on December 20, 2012 on behalf of workers of U.S. Steel Tubular Products, McKeesport Tubular Operations Division, Subsidiary of United States Steel Corporation, McKeesport, Pennsylvania (subject firm). The workers' firm produces steel drill pipe and drill collars.

On January 28, 2013, the Department issued a certification stating that the criteria set forth in Section 222(e) of the Trade Act of 1974, as amended, was met.

A review of the determination and the petition, however, revealed that the certification was erroneously issued. Specifically, the determination inaccurately stated that the petition was filed within a year of the March 3, 2011 publication in the Federal Register of the International Trade Commission's finding that dumping of drill pipes and drill collars from China negatively impacted U.S. firms engaged in production of those articles.

Although the subject firm was publicly identified by name by the International Trade Commission as a member of a domestic industry in an investigation resulting in a category of determination that is listed in Section 222(e) of the Act, 19 U.S.C. 2272(e), the petition was filed more than a year after the publication of the ITC's findings in the Federal Register.

The Department will conduct an investigation to determine whether or not the petitioning worker group has met the criteria set forth in Section 222(a) or (b) of the Trade Act of 1974, as amended, and will issue a determination accordingly.

Signed in Washington, DC, this 15th day of February, 2013.
Del Min Amy Chen,
Certifying Officer, Office of Trade Adjustment Assistance.

[FR Doc. 2013-04948 Filed 3-4-13; 8:45 am]

BILLING CODE 4510-FN-P